DEPARTMENT OF HOUSING AND URBAN DEVELOPMENT

[Docket No. FR-5374-N-04]

Buy American Exceptions Under the American Recovery and Reinvestment Act of 2009

AGENCY: Office of the Assistant Secretary for Public and Indian Housing, HUD.

ACTION: Notice.

SUMMARY: In accordance with the American Recovery and Reinvestment Act of 2009 (Pub. L. 111-05, approved February 17, 2009) (Recovery Act), and implementing guidance of the Office of Management and Budget (OMB), this notice advises that an individual exception to the Buy American requirement of the Recovery Act have been determined applicable for work using Capital Fund Recovery Formula and Competition (CFRFC) grant funds. Specifically, a waiver was granted to the Wilkes-Barre Housing Authority for the purchase and installation of tank-less water heaters in the Mineral Springs Village and Boulevard Town Homes.

FOR FURTHER INFORMATION CONTACT: Dominique G. Blom, Deputy Assistant Secretary for Public Housing Investments, Office of Public Housing Investments, Office of Public and Indian Housing, Department of Housing and Urban Development, 451 7th Street, SW., Room 4210, Washington, DC 20410-4000, telephone number 202-402-8500 (this is not a toll-free number). Persons with hearing- or speech-impairments may access this number through TTY by calling the toll-free Federal Information Relay Service at 800-877-8339.

SUPPLEMENTARY INFORMATION: Subsection 1605(a) of the Recovery Act imposes a “Buy American” requirement on Recovery Act funds that, unless all of the iron, steel, and manufactured goods used in the project are produced in the United States, the funds may not be used for a project for the construction, alteration, maintenance, or repair of a public building or public work. Subsection 1605(b) provides that the Buy American requirement shall not apply in any case or category in which the head of a Federal department or agency finds that: (1) Applying the Buy American requirement would be inconsistent with the public interest; (2) iron, steel, and the relevant manufactured goods are not produced in the U.S. in sufficient and reasonably available quantities or of satisfactory quality, or (3) inclusion of iron, steel, and manufactured goods will increase the cost of the overall project by more than 25 percent. Subsection 1605(c) provides that if the head of a Federal department or agency makes a determination that it is necessary to waive subsection 1605(a) pursuant to subsection 1605(b), the head of the department or agency shall publish a detailed written justification in the Federal Register.

In accordance with subsection 1605(c) of the Recovery Act and OMB's implementing guidance published on April 23, 2009 (74 FR 18449), this notice advises the public that, on December 21, 2009, upon request of the Wilkes-Barre Housing Authority, HUD granted an exception under subsection 1605(b) with respect to work using CFRFC grant funds, based on the fact that the relevant manufactured goods (tank-less water heaters) are not produced in the U.S. in sufficient and reasonably available quantities or of satisfactory quality.

Dated: December 29, 2009.
Sandra B. Henriquez,
Assistant Secretary for Public and Indian Housing.

[FR Doc. 2010-284 Filed 1-8-10; 8:45 am]

BILLING CODE 4210-67-P